DEPARTMENT OF THE TREASURY

Fiscal Service

Surety Companies Acceptable on Federal Bonds: Change in State of Incorporation—Gulf Insurance Company

AGENCY: Financial Management Service, Fiscal Service, Department of the Treasury.

ACTION: Notice.

SUMMARY: This is Supplement No. 17 to the Treasury Department Circular 570; 2001 Revision, published July 2, 2001, at 66 FR 35024.

FOR FURTHER INFORMATION CONTACT: Surety Bond Branch at (202) 874-6779.

SUPPLEMENTARY INFORMATION: Gulf Insurance Company has redomesticated from the state of Missouri to the state of Connecticut effective October 1, 2001. The Company was last listed as an acceptable surety on Federal bonds at 66 FR 35041, July 2, 2001.

Federal bond-approving officers should annotate their reference copies of the Treasury Circular 570, 2001 revision, on page 35041 to reflect this change.

The Circular may be viewed and downloaded through the Internet at http://www.fms.treas.gov/c570/index.html. A hard copy may be purchased from the Government Printing Office (GPO), Subscription Service, Washington, DC, telephone (202) 512-1800. When ordering the Circular from GPO, use the following stock number: 769-004-04067-1.

Questions concerning this notice may be directed to the U.S. Department of the Treasury, Financial Management Service, Funds Management Division, Surety Bond Branch, 3700 East-West Highway, Room 6F44, Hyattsville, MD 20782.

Dated: March 14, 2002.
Wanda J. Rogers,
Director, Financial Accounting and Services Division, Financial Management Service.

[FR Doc. 02-6784 Filed 3-20-02; 8:45 am]

BILLING CODE 4810-35-M